RAILROAD RETIREMENT BOARD

Privacy Act of 1974, as Amended; Notice of Computer Matching Program (Railroad Retirement Board and Social Security Administration, Match Number 1007)

AGENCY: Railroad Retirement Board (RRB).

ACTION: Notice of a new matching program.

SUMMARY: In accordance with the provisions of the Privacy Act, as amended, this notice announces a new matching program between RRB and the Social Security Administration (SSA). Under this two-way matching program, RRB and SSA both serve as source and recipient. RRB will use the information received from SSA in the administration of benefits under the Railroad Retirement Act. SSA will use the information received from RRB to administer its Retirement, Survivors and Disability Insurance program.

DATES: This matching program becomes effective as proposed without further notice on January 16, 2026. The matching program will continue for 18 months after the effective date and may be extended for an additional 12 months if the conditions specified in 5 U.S.C. 552a(o)(2)(D) have been met. We have submitted a report of this computer-matching program with the Committee on Homeland Security and Governmental Affairs of the Senate; the Committee on Oversight and Government Reform of the House of Representatives; and the Office of Information and Regulatory Affairs, Office of Management and Budget (OMB).

ADDRESSES: Interested parties may comment on this publication by writing to Ms. Stephanie Hillyard, Secretary to the Board, Railroad Retirement Board, 844 North Rush Street, Chicago, Illinois 60611-1275.

FOR FURTHER INFORMATION CONTACT: Mr. Chad Peek, Chief Privacy Officer, Railroad Retirement Board, 844 North Rush Street, Chicago, Illinois 60611-1275, telephone 312-751-3389 or email at chad.peek@rrb.gov.

SUPPLEMENTARY INFORMATION:

A. General

The Privacy Act of 1974, 5 U.S.C. 552a, as amended by the Computer Matching and Privacy Protection Act of 1988 (Pub. L. 100-503), requires a federal agency participating in a computer matching program to publish a notice in the Federal Register for all matching programs.

The Privacy Act, as amended, regulates the use of computer matching by federal agencies when records contained in a Privacy Act System of Records are matched with other federal, state, or local government records. It requires federal agencies involved in computer matching programs to:

(1) Negotiate written agreements with the other agency or agencies participating in the matching programs;

(2) Obtain the approval of the matching agreement by the Data Integrity Boards (DIB) of the participating federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments. The last notice for this matching program was published at 88 FR 8921 (February 10, 2023).

B. RRB Computer Matches Subject to the Privacy Act

We have taken appropriate action to ensure that all of our computer matching programs comply with the requirements of the Privacy Act, as amended.

Participating Agencies

Railroad Retirement Board (RRB) and the Social Security Administration (SSA), Match #1007.

Authority for Conducting the Matching Program

45 U.S.C. 231f(b)(7) requires SSA to provide wage, self-employment income, and other records pertinent to the administration of the Railroad Retirement Act (RRA); 45 U.S.C. 231f(b)(4)(B)(i) provides that RRB is required to certify Social Security benefits to the Department of Treasury on SSA's behalf for the agencies' mutual retirees; 26 U.S.C. 6103(l)(1)(C) provides authority for RRB to have access to tax return information with respect to taxes imposed under chapter 22 of the Internal Revenue Code (IRC) for purposes of administering the RRA; 42 U.S.C. 402(x)(3)(B)(iv) provides authority for SSA to disclose prisoner data to any agency administering a federal or federally-assisted cash, food, or medical assistance program; 45 U.S.C. 231q(2) provides that earnings considered as compensation under the RRA will be considered as wages under the Social Security Act (Act); and the responsibilities of RRB and SSA with respect to the information obtained under this agreement are in accordance with 42 U.S.C. 402, 405(o) and 415(f); 45 U.S.C. 231f(b)(2)(D).

Purpose

The RRB will, on a daily basis, obtain from SSA a record of the wages reported to SSA for persons who have applied for benefits under the Railroad Retirement Act and a record of the amount of benefits paid by that agency to persons who are receiving or have applied for benefits under the Railroad Retirement Act. The wage information is needed to compute the amount of the tier I annuity component provided by sections 3(a), 4(a) and 4(f) of the Railroad Retirement Act (45 U.S.C. 231b(a), 45 U.S.C. 231c(a) and 45 U.S.C. 231c(f)). The benefit information is needed to adjust the tier I annuity component for the receipt of the Social Security benefit. This information is available from no other source.

Second, the RRB will receive from SSA the amount of certain social security benefits which the RRB pays on behalf of SSA. Section 7(b)(2) of the Railroad Retirement Act (45 U.S.C. 231f(b)(2)) provides that the RRB shall make the payment of certain social security benefits. The RRB also requires this information in order to adjust the amount of any annuity due to the receipt of a social security benefit. Section 10(a) of the Railroad Retirement Act (45 U.S.C. 231i(a)) permits the RRB to recover any overpayment from the accrual of social security benefits. This information is not available from any other source.

Third, once a year the RRB will receive from SSA a copy of SSA's Master Benefit Record for earmarked RRB annuitants. Section 7(b)(7) of the Railroad Retirement Act (45 U.S.C. 231f(b)(7)) requires that SSA provide the requested information. The RRB needs this information to make the necessary cost-of-living computation adjustments quickly and accurately for those RRB annuitants who are also SSA beneficiaries.

SSA will receive weekly from RRB earnings information for all railroad employees. SSA will match the identifying information of the records furnished by the RRB against the identifying information contained in its Master Benefit Record and its Master Earnings File. If there is a match, SSA will use the RRB earnings to adjust the amount of Social Security benefits in its Annual Earnings Reappraisal Operation. This information is available from no other source.

The SSA will also receive daily from RRB earnings information on selected individuals. The transfer of information may be initiated either by RRB or by SSA. SSA needs this information to determine eligibility to Social Security benefits and, if eligibility is met, to determine the benefit amount payable. Section 18 of the Railroad Retirement Act (45 U.S.C. 231q(2)) requires that earnings considered as compensation under the Railroad Retirement Act be considered as wages under the Social Security Act for the purposes of determining entitlement under the Social Security Act if the person has less than 10 years of railroad service or has 10 or more years of service but does not have a current connection with the railroad industry at the time of his/her death.

Categories of Individuals

All applicants for benefits under the Railroad Retirement Act and current beneficiaries will have a record of any social security wages and the amount of any social security benefits furnished to the RRB by SSA. In addition, all persons who ever worked in the railroad industry after 1936 will have a record of their service and compensation furnished to SSA by RRB.

Categories of Records

1. Name, social security number, RRB claim number, annuity beginning date, date of birth, sex, last employer identification number, amount of daily pay rate, separation allowance or severance payment, creditable service and compensation after 1937, home address, date of death, and electronic mail address.

2. Information pertaining to the payment or denial of an individual's claim for benefits under the Railroad Retirement Act: name, address, social security number, claim number, proofs of age, marriage, relationship, death, military service, creditable earnings and service months (including military service), entitlement to benefits under the Social Security Act, programs administered by the Veterans Administration, or other benefit systems, rates, effective dates, medical reports, correspondence and telephone inquiries to and about the beneficiary, suspension and termination dates, health insurance effective date, option, premium rate and deduction, direct deposit data, employer pension information, citizenship status and legal residency status (for annuitants living outside the United States), and tax withholding information (instructions of annuitants regarding number of exemptions claimed and additional amounts to be withheld, as well as actual amounts withheld for tax purposes).

Systems of Records

The applicable RRB Privacy Act Systems of Records and their Federal Register citation used in the matching program are:

1. RRB-5, Master File of Railroad Employees' Creditable Compensation, September 30, 2014 (79 FR 58877)

2. RRB-22, Railroad Retirement, Survivor, Pensioner Benefit System, December 5, 2025 (90 FR 56201)

The applicable SSA Privacy Act Systems of Records used and their Federal Register citation used in the matching program are:

1. SSA Master Files of SSN Holders and SSN Applications (Enumeration System) (60-0058), last fully published at 90 FR 50879 (November 12, 2025).

2. SSA Earnings Recording and Self-Employment Income System, (60-0059), last fully published at 71 FR 1819 (January 11, 2006) and updated at 78 FR 40542 (July 5, 2013), 83 FR 54969 (November 1, 2018), and 89 FR 825 (January 5, 2024), and 90 FR 53413 (November 25, 2025).

3. SSA Master Beneficiary Record (MBR) (60 0090), last fully published at 71 FR 1826 (January 11, 2006) and updated at 72 FR 69723 (December 10, 2007), 78 FR 40542 (July 5, 2013), 83 FR 31250-31251 (July 3, 2018), 83 FR 54969 (November 1, 2018), 89 FR 825 (January 5, 2024), and 89 FR 14554 (February 27, 2024), and 90 FR 53413 (November 25, 2025).

4. SSA Supplemental Security Income Record and Special Veterans Benefits (SSR) (60-0103), last fully published at 71 FR 1830 (January 11, 2006) and updated at 72 FR 69723 (December 10, 2007), 83 FR 31250-31251 (July 3, 2018), 83 FR 54969 (November 1, 2018), 89 FR 825 (January 5, 2024), and 89 FR 14554 (February 27, 2024), and 90 FR 53413 (November 25, 2025).

5. SSA Prisoner Update Processing System (PUPS), (60-0269), last fully published at 64 FR 11076 (March 8, 1999), and updated at 72 FR 69723 (December 10, 2007), 78 FR 40542 (July 5, 2013), and 83 FR 54969 (November 1, 2018), and 90 FR 53413 (November 25, 2025).

Dated: December 15, 2025.
By Authority of the Board.
Stephanie Hillyard,
Secretary to the Board.

[FR Doc. 2025-23137 Filed 12-16-25; 8:45 am]

BILLING CODE 7905-01-P